NUCLEAR REGULATORY COMMISSION

10 CFR Part 171

[NRC-2008-0664]

RIN 3150-AI54

Variable Annual Fee Structure for Small Modular Reactors; Corrections

AGENCY: Nuclear Regulatory Commission.

ACTION: Final rule; correcting amendments.

SUMMARY: The U.S. Nuclear Regulatory Commission (NRC) published a final rule in the Federal Register on May 24, 2016, amending its licensing, inspection, and annual fee regulations to establish a variable annual fee structure for light-water small modular reactors. The final rule contained a grammatical error in a definition, an incorrect reference format, and an incomplete signature date. This document corrects the final rule by revising the sections that contain these errors and completing the signature date.

DATES: This rule is effective on July 15, 2016.

ADDRESSES: Please refer to Docket ID NRC-2008-0664 when contacting the NRC about the availability of information regarding this document. You may obtain publicly-available information related to this document using any of the following methods:

• Federal Rulemaking Web site: Go to http://www.regulations.gov and search for Docket ID NRC-2008-0664. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Michele Kaplan, Office of the Chief Financial Officer, U.S. Nuclear Regulatory Commission, Washington, DC 20555-0001, telephone: 301-415-5256, email: Michele.Kaplan@nrc.gov.

SUPPLEMENTARY INFORMATION: The NRC published a final rule in the Federal Register on May 24, 2016 (81 FR 32617), effective June 23, 2016, amending its licensing, inspection, and annual fee regulations in parts 170 and 171 of title 10 of the Code of Federal Regulations to establish a variable annual fee structure for light-water small modular reactors. The final rule contained a grammatical error in the definition of variable rate that was added to § 171.5, “Definitions,” and an incorrect reference format in a paragraph that was added to § 171.15, “Annual fees: Reactor licenses and independent spent fuel storage licenses.” The final rule also included an incomplete signature date for the rule. This document corrects the final rule by revising the definition for variable rate, revising the reference format in § 171.15(e)(1), and correcting the signature date for the final rule.

Rulemaking Procedure

Under the Administrative Procedure Act (5 U.S.C. 553(b)), an agency may waive the normal notice and comment requirements if it finds, for good cause, that they are impracticable, unnecessary, or contrary to the public interest. As authorized by 5 U.S.C. 553(b)(3)(B), the NRC finds good cause to waive notice and opportunity for comment on the amendments because they will have no substantive impact and are of a minor and administrative nature dealing with corrections to certain CFR sections related only to management, organization, procedure, and practice. Specifically, these amendments are to correct grammatical errors and to revise cross-references to comply with the Office of the Federal Register's Document Drafting Handbook. These amendments do not require action by any person or entity regulated by the NRC. Also, the final rule does not change the substantive responsibilities of any person or entity regulated by the NRC. Furthermore, for the reasons stated above, the NRC finds, pursuant to 5 U.S.C. 553(d)(3), that good cause exists to make this rule effective upon publication of this notice.

Correction to the Signature Date

In FR Doc. 2016-11975 appearing on page 32617 in the Federal Register of Tuesday, May 24, 2016, the following correction to the signature date is made:

1. On page 32628, in the first column, the signature date is corrected to read as follows: Dated at Rockville, Maryland, this 6th day of May, 2016.

List of Subjects in 10 CFR Part 171

Annual charges, Byproduct material, Holders of certificates, registrations, approvals, Intergovernmental relations, Nonpayment penalties, Nuclear materials, Nuclear power plants and reactors, Source material, Special nuclear material.

For the reasons set out in the preamble and under the authority of the Atomic Energy Act of 1954, as amended; the Energy Reorganization Act of 1974, as amended; and 5 U.S.C. 552 and 553, the NRC is adopting the following correcting amendments to 10 CFR part 171:

PART 171—ANNUAL FEES FOR REACTOR LICENSES AND FUEL CYCLE LICENSES AND MATERIALS LICENSES, INCLUDING HOLDERS OF CERTIFICATES OF COMPLIANCE, REGISTRATIONS, AND QUALITY ASSURANCE PROGRAM APPROVALS AND GOVERNMENT AGENCIES LICENSED BY THE NRC

1. The authority citation for part 171 continues to read as follows:

Authority: Atomic Energy Act of 1954, secs. 11, 161(w), 223, 234 (42 U.S.C. 2014, 2201(w), 2273, 2282); Energy Reorganization Act of 1974, sec. 201 (42 U.S.C. 5841); 42 U.S.C. 2214; 44 U.S.C. 3504 note.

2. In § 171.5, revise the definition of variable rate to read as follows:

§ 171.5 Definitions.

* * * * *

Variable rate means a per-MWt fee factor applied to all bundled units on site with a licensed thermal power rating less than or equal to 2,000 MWt. For the first bundled unit on a site with a licensed thermal power rating greater than 250 MWt and less than or equal to 2,000 MWt, the variable rate is based on the difference between the maximum fee and the minimum fee, divided by 1,750 MWt (the variable fee licensed thermal rating range). For additional bundled units with a licensed thermal power rating less than or equal to 2,000 MWt, the variable rate is based on the maximum fee divided by 2,000 MWt.

3. In § 171.15, revise paragraph (e)(1) to read as follows:

§ 171.15 Annual fees: Reactor licenses and independent spent fuel storage licenses.

* * * * *

(e)(1) Each person holding an operating license for an SMR issued under 10 CFR part 50 or a combined license issued under 10 CFR part 52 after the Commission has made the finding under 10 CFR 52.103(g), shall pay the annual fee for all licenses held for an SMR site. The annual fee will be determined using the cumulative licensed thermal power rating of all SMR units and the bundled unit concept, during the fiscal year in which the fee is due. For a given site, the use of the bundled unit concept is independent of the number of SMR plants, the number of SMR licenses issued, or the sequencing of the SMR licenses that have been issued.

* * * * *

Dated at Rockville, Maryland, this 8th day of July 2016.
For the Nuclear Regulatory Commission.
Theresa Barczy,
Acting Branch Chief, Rules, Announcements and Directives Branch, Division of Administrative Services, Office of Administration.

[FR Doc. 2016-16659 Filed 7-14-16; 8:45 am]

BILLING CODE 7590-01-P